DEPARTMENT OF DEFENSE

Defense Acquisition Regulations System

[Docket Number: DARS-2017-0005; OMB Control Number 0704-0272]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by November 24, 2017.

SUPPLEMENTARY INFORMATION: Title, Associated Form, and OMB Number: Defense Federal Acquisition Regulation Supplement (DFARS) part 223, Occupational Safety and Drug-Free Work Force and Related Clauses in DFARS 252.223; OMB Control Number 0704-0272.

Type of Request: Revision of a currently approved collection.

Affected Public: Businesses or other for-profit and not-for-profit institutions.

Respondent's Obligation: Required to obtain or retain benefits.

Reporting Frequency: On occasion.

Number of Respondents: 3,695.

Responses per Respondent: 16.8, approximately.

Annual Responses: 62,053.

Average Burden per Response: 10.4 hours, approximately.

Annual Burden Hours: 645,744 hours.

Needs and Uses: This information collection requires that an offeror or contractor submit information to DoD in response to four DFARS solicitation and contract clauses relating to occupational safety and drug-free work force program. DoD contracting officers use this information to—

○ Verify compliance with requirements for labeling of hazardous materials;

○ Ensure contractor compliance and monitor subcontractor compliance with DoD 4145.26-M, DoD Contractors' Safety Manual for Ammunition and Explosives, and minimize risk of mishaps;

○ Identify the place of performance of all ammunition and explosives work; and

○ Ensure contractor compliance and monitor subcontractor compliance with DoD 5100.76-M, Physical Security of Sensitive Conventional Arms, Ammunition, and Explosives.

○ Ensure compliance with the clause program requirements with regard to programs for achieving the objective of a drug-free work force; requires contractor recordkeeping.

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection.

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Jennifer L. Hawes,
Editor, Defense Acquisition Regulations System.

[FR Doc. 2017-22964 Filed 10-23-17; 8:45 am]

BILLING CODE 5001-06-P